OFFICE OF MANAGEMENT AND BUDGET

Request for Comments on 2018 Federal Cloud Computing Strategy

AGENCY: Office of Management and Budget.

ACTION: Notice of public comment period.

SUMMARY: The Office of Management and Budget (OMB) is seeking public comment on a draft document titled “2018 Federal Cloud Computing Strategy.”

DATES: The public comment period on the draft memorandum begins on September 24, 2018, and will last for 30 days. The public comment period will end on October 24, 2018.

ADDRESSES: Interested parties should provide comments at the following link: https://cloud.cio.gov/. The Office of Management and Budget is located at 725 17th Street NW, Washington, DC 20503.

FOR FURTHER INFORMATION CONTACT: Bill Hunt at ofcio@omb.eop.gov or the Office of the Federal Chief Information Officer at (202) 395-3080.

SUPPLEMENTARY INFORMATION: The Office of Management and Budget (OMB) is proposing a new Federal Cloud Computing Strategy (“Cloud Smart”) to increase cloud adoption across the Federal portfolio. As part of the President's Management Agenda, the U.S. Government has committed to modernize legacy technology and leverage leading practices from industry to improve citizen services, reduce operational costs, and enhance the security of the Federal enterprise. The 2018 Federal Cloud Computing Strategy, “Cloud Smart,” an update of the original Cloud approach, addresses gaps in previous guidance, embraces new capabilities, and provides an end-to-end strategy to accelerate transformation. This new, transformative strategy focuses on three key inter-related areas—security, procurement, and workforce—necessary to drive cloud adoption through building knowledge in government and removing burdensome policy barriers. This strategy will be available for review and public comment at https://cloud.cio.gov/.

Suzette Kent,
U.S. Federal Chief Information Officer.

[FR Doc. 2018-20819 Filed 9-24-18; 8:45 am]

BILLING CODE 3110-05-P